DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 USC 327, the United States Fish and Wildlife Service (USFWS), and the United States Army Corps of Engineers (USACOE).

SUMMARY: The FHWA, on behalf of Caltrans, is issuing this notice to announce actions taken by Caltrans, that are final within the meaning of 23 U.S.C. 139(l)(1). The actions relate to a proposed highway project along Interstate 805, San Diego, CA, PM: 23.3-27.7 in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 18, 2011. If the Federal law that authorizes judicial review of a claim provides a time period of less than 180 days for filing such claim, then that shorter time period still applies.

FOR FURTHER INFORMATION CONTACT: Bruce April, Deputy District Director, Division of Environmental Analysis, Caltrans, District 11, 4050 Taylor Street, San Diego, CA 91942, Office: 619-688-0100, e-mail: bruce.april@dot.ca.gov.

SUPPLEMENTARY INFORMATION: Effective July 1, 2007, the Federal Highway Administration (FHWA) assigned, and the California Department of Transportation (Caltrans) assumed environmental responsibilities for this project pursuant to 23 U.S.C. 327. Notice is hereby given that Caltrans has taken final agency actions subject to 23 U.S.C. 139(l)(1) by issuing licenses, permits, and approvals for the following highway project in the State of California: The addition of four managed lanes (two in each direction) on Interstate 805 (I-805) from State Route 52 (SR-52) to La Jolla Village Drive. Two high occupancy vehicle (HOV) lanes (one in each direction) from La Jolla Village Drive to just north of Mira Mesa Boulevard (Blvd). The project would also construct a transit station and Direct Access Ramp (DAR) at Nobel Drive, a park-n-ride at Governor Drive, the south-facing portion of the Carroll Canyon DAR, and a direct connector from the SR-52 to the I-805 Managed Lanes.

The actions by the Federal agencies, and the laws under which such actions were taken, are described in the Final Environmental Assessment (EA) for the project, approved on December 30th, 2010, in the FHWA Finding of No Significant Impacts (FONSI) issued on December 30th, 2010, and in other documents in the FHWA project records. The IS/MND & EA/FONSI, and other project records are available by contacting Caltrans at the addresses provided above. The Caltrans Final EA and FONSI can be viewed and downloaded from the project Web site at http://www.dot.ca.gov/dist11/. The USFWS decision and permit are available within the environmental document at the above Web site as an appendix. Pending Federal actions include:

• 401 Water Quality Certification from the Regional Water Quality Control Board, under Section 401 of the Clean Water Act.

• 404 Permit pursuant to the Memorandum of Understanding among the FHWA; Caltrans, USACOE, U.S. Fish and Wildlife Service and the National Marine Fisheries Service for the National Environmental Policy Act and the Clean Water Act Section 404 Integration Process for Federal Aid Surface Transportation Projects in California (NEPA/404 MOU).

This notice applies to all Federal agency decisions as of the issuance date of this notice and all laws under which such actions were taken, including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act Amendments of 1990;

7. Clean Water Act of 1977 and 1987;

8. Endangered Species Act of 1973;

9. Migratory Bird Treaty Act;

10. Farmland Protection Policy Act of 1981;

11. Title VI of the Civil Rights Act of 1964;

12. Uniform Relocation Assistance and Real Property Acquisition Act of 1970;

13. National Historic Preservation Act of 1966;

14. Historic Sites Act of 1935;

15. Executive Order 11990, Protection of Wetlands;

16. Executive Order 13112, Invasive Species;

17. Executive Order 11988, Floodplain Management; and,

18. Executive Order 12898, Environmental Justice.

(Catalog of Federal Domestic Assistance Program Number 20.205, Highway Planning and Construction. The regulations implementing Executive Order 12372 regarding intergovernmental consultation on Federal programs and activities apply to this program.)

Authority: 23 U.S.C. 139(l)(1).

Issued on: January 11, 2011.
Shawn Oliver,
South Team Leader, State Programs, Federal Highway Administration, Sacramento, California.

[FR Doc. 2011-870 Filed 1-14-11; 8:45 am]

BILLING CODE 4910-22-P